DEPARTMENT OF THE INTERIOR

National Park Service

[NPS-WASO-NAGPRA-; PPWOCRADN0-PCU00RP14.R50000]

Notice of Inventory Completion: U.S. Department of the Interior, National Park Service, Big Bend National Park, TX

AGENCY: National Park Service, Interior.

ACTION: Notice.

SUMMARY: The U.S. Department of the Interior, National Park Service, Big Bend National Park has completed an inventory of human remains and associated funerary objects, in consultation with the appropriate Indian tribes or Native Hawaiian organizations, and has determined that there is no cultural affiliation between the human remains and associated funerary objects and any present-day Indian tribes or Native Hawaiian organizations. Representatives of any Indian tribe or Native Hawaiian organization not identified in this notice that wish to request transfer of control of these human remains and associated funerary objects should submit a written request to Big Bend National Park. If no additional requestors come forward, transfer of control of the human remains and associated funerary objects to the Indian tribes or Native Hawaiian organizations stated in this notice may proceed.

DATES: Representatives of any Indian tribe or Native Hawaiian organization not identified in this notice that wish to request transfer of control of these human remains and associated funerary objects should submit a written request with information in support of the request to Big Bend National Park at the address in this notice by November 2, 2015.

ADDRESSES: Cindy Ott-Jones, Superintendent, Big Bend National Park, P.O. Box 129, Big Bend National Park, TX 79834, telephone (432) 477-1101, email cindy_ott-jones@nps.gov.

SUPPLEMENTARY INFORMATION: Notice is here given in accordance with the Native American Graves Protection and Repatriation Act (NAGPRA), 25 U.S.C. 3003, of the completion of an inventory of human remains and associated funerary objects under the control of the U.S. Department of the Interior, National Park Service, Big Bend National Park, TX. The human remains and associated funerary objects were removed from Big Bend National Park, Brewster County, TX.

This notice is published as part of the National Park Service's administrative responsibilities under NAGPRA, 25 U.S.C. 3003(d)(3) and 43 CFR 10.11(d). The determinations in this notice are the sole responsibility of the Superintendent, Big Bend National Park.

Consultation

A detailed assessment of the human remains was made by Big Bend National Park professional staff in consultation with representatives of the Absentee-Shawnee Tribe of Indians of Oklahoma; Comanche Nation, Oklahoma; Mescalero Apache Tribe of the Mescalero Reservation, New Mexico; San Carlos Apache Tribe of the San Carlos Reservation, Arizona; and Ysleta Del Sur Pueblo (previously listed as the Ysleta Del Sur Pueblo of Texas) (hereafter referred to as “The Consulted Tribes”).

The following tribes were invited to consult but did not participate: Apache Tribe of Oklahoma; Blackfeet Tribe of the Blackfeet Indian Reservation of Montana; Fort Sill Apache Tribe of Oklahoma; Jicarilla Apache Nation, New Mexico; Kickapoo Traditional Tribe of Texas; Kickapoo Tribe of Indians of the Kickapoo Reservation in Kansas; Kickapoo Tribe of Oklahoma; Kiowa Indian Tribe of Oklahoma; Pueblo of Isleta, New Mexico; Pueblo of Sandia, New Mexico; Shoshone Tribe of the Wind River Reservation, Wyoming; Tonto Apache Tribe of Arizona; White Mountain Apache Tribe of the Fort Apache Reservation, Arizona; and Wichita and Affiliated Tribes (Wichita, Keechi, Waco & Tawakonie), Oklahoma (hereafter referred to as “The Invited Tribes”).

History and Description of the Remains

Prior to 1944, human remains representing, at minimum, three individuals were removed from an unknown site in Brewster County, TX, by unknown individuals. The remains were donated to Big Bend National Park in 1947 by Mrs. Elmo Johnson. No known individuals were identified. No associated funerary objects are present.

In 1966-67, human remains representing, at minimum, one individual were removed from site 41BS360 in Brewster County, TX, during a survey by the University of Texas. No known individuals were identified. No associated funerary objects are present.

In 1983, human remains representing, at minimum, two individuals were removed from the Black Willow site in Brewster County, TX, during legally authorized excavations. No known individuals were identified. No associated funerary objects are present.

In May 1990, human remains representing, at minimum, one individual were removed from the Rough Run site in Brewster County, TX, during legally authorized excavations. No known individuals were identified. The 75 associated funerary objects are 72 projectile points and projectile point fragments, 2 utilized flakes, and 1 chipped stone.

Determinations Made by Big Bend National Park

Officials of Big Bend National Park have determined that:

• Pursuant to 25 U.S.C. 3001(9), the human remains described in this notice are Native American based on osteological analysis and archeological context.

• Pursuant to 25 U.S.C. 3001(9), the human remains described in this notice represent the physical remains of seven individuals of Native American ancestry.

• Pursuant to 25 U.S.C. 3001(3)(A), the 75 objects described in this notice are reasonably believed to have been placed with or near individual human remains at the time of death or later as part of the death rite or ceremony. The National Park Service intends to convey the associated funerary objects to the tribes pursuant to 54 U.S.C. 102503(g) through (i) and 54 U.S.C 102504.

• Pursuant to 25 U.S.C. 3001(2), a relationship of shared group identity cannot be reasonably traced between the Native American human remains and associated funerary objects and any present-day Indian tribe.

• Treaties, Acts of Congress, or Executive Orders, indicate that the land from which the Native American human remains and associated funerary objects were removed is the aboriginal land of the Apache Tribe of Oklahoma; Fort Sill Apache Tribe of Oklahoma; Jicarilla Apache Nation, New Mexico; Mescalero Apache Tribe of the Mescalero Reservation, New Mexico; San Carlos Apache Tribe of the San Carlos Reservation, Arizona; Tonto Apache Tribe of Arizona; and White Mountain Apache Tribe of the Fort Apache Reservation, Arizona.

• Other credible lines of evidence, including relevant and authoritative governmental determinations and information gathered during government-to-government consultation from subject matter experts, indicate that the land from which the Native American human remains and associated funerary objects were removed is the aboriginal land of the Absentee-Shawnee Tribe of Indians of Oklahoma; Comanche Nation, Oklahoma; Kickapoo Traditional Tribe of Texas; Kickapoo Tribe of Indians of the Kickapoo Reservation in Kansas; Kickapoo Tribe of Oklahoma; Kiowa Indian Tribe of Oklahoma; Shoshone Tribe of the Wind River Reservation, Wyoming; Wichita and Affiliated Tribes (Wichita, Keechi, Waco & Tawakonie), Oklahoma; and Ysleta Del Sur Pueblo (previously listed as the Ysleta Del Sur Pueblo of Texas).

• Pursuant to 43 CFR 10.11(c)(1), the disposition of the human remains and associated funerary objects may be to the Absentee-Shawnee Tribe of Indians of Oklahoma; Apache Tribe of Oklahoma; Comanche Nation, Oklahoma; Fort Sill Apache Tribe of Oklahoma; Jicarilla Apache Nation, New Mexico; Kickapoo Traditional Tribe of Texas; Kickapoo Tribe of Indians of the Kickapoo Reservation in Kansas; Kickapoo Tribe of Oklahoma; Kiowa Indian Tribe of Oklahoma; Mescalero Apache Tribe of the Mescalero Reservation, New Mexico; San Carlos Apache Tribe of the San Carlos Reservation, Arizona; Shoshone Tribe of the Wind River Reservation, Wyoming; Tonto Apache Tribe of Arizona; White Mountain Apache Tribe of the Fort Apache Reservation, Arizona; Wichita and Affiliated Tribes (Wichita, Keechi, Waco & Tawakonie), Oklahoma; and Ysleta Del Sur Pueblo (previously listed as the Ysleta Del Sur Pueblo of Texas).

Additional Requestors and Disposition

Representatives of any Indian tribe or Native Hawaiian organization not identified in this notice that wish to request transfer of control of these human remains and associated funerary objects should submit a written request with information in support of the request to Cindy Ott-Jones, Superintendent, Big Bend National Park, P.O. Box 129, Big Bend National Park, TX 79834, telephone (432) 477-1101, email cindy_ott-jones@nps.gov, by November 2, 2015. After that date, if no additional requestors have come forward, transfer of control of the human remains and associated funerary objects to the Absentee-Shawnee Tribe of Indians of Oklahoma; Apache Tribe of Oklahoma; Comanche Nation, Oklahoma; Fort Sill Apache Tribe of Oklahoma; Jicarilla Apache Nation, New Mexico; Kickapoo Traditional Tribe of Texas; Kickapoo Tribe of Indians of the Kickapoo Reservation in Kansas; Kickapoo Tribe of Oklahoma; Kiowa Indian Tribe of Oklahoma; Mescalero Apache Tribe of the Mescalero Reservation, New Mexico; San Carlos Apache Tribe of the San Carlos Reservation, Arizona; Shoshone Tribe of the Wind River Reservation, Wyoming; Tonto Apache Tribe of Arizona; White Mountain Apache Tribe of the Fort Apache Reservation, Arizona; Wichita and Affiliated Tribes (Wichita, Keechi, Waco & Tawakonie), Oklahoma; and Ysleta Del Sur Pueblo (previously listed as the Ysleta Del Sur Pueblo of Texas) may proceed.

Big Bend National Park is responsible for notifying The Consulted Tribes and The Invited Tribes that this notice has been published.

Dated: August 25, 2015.
Melanie O'Brien,
Manager, National NAGPRA Program.

[FR Doc. 2015-25024 Filed 9-30-15; 8:45 am]

BILLING CODE 4312-50-P